DEPARTMENT OF HOMELAND SECURITY

Coast Guard

[USCG-2003-15836]

Merchant Marine Personnel Advisory Committee

AGENCY: Coast Guard, DHS.

ACTION: Notice of meetings.

SUMMARY: The Merchant Marine Personnel Advisory Committee (MERPAC) and its working groups will meet to discuss various issues relating to the training and fitness of merchant marine personnel. MERPAC advises the Secretary of Homeland Security on matters relating to the training, qualifications, licensing, certification, and fitness of seamen serving in the U.S. merchant marine. All meetings will be open to the public.

DATES: MERPAC will meet on Thursday, September 18, 2003, from 8 a.m. to 4 p.m. and on Friday, September 19, 2003, from 8 a.m. to 3 p.m. These meetings may adjourn early if all business is finished. Requests to make oral presentations should reach the Coast Guard on or before September 4, 2003. Written material and requests to have a copy of your material distributed to each member of the committee or subcommittee should reach the Coast Guard on or before September 4, 2003.

ADDRESSES: MERPAC will meet on both days in the Fourth Floor Boardroom of the Port of Houston Authority Building, 111 East Loop North, Houston, TX 77029. Further directions regarding the location of the Port of Houston Authority Building may be obtained by contacting Mr. Alistair McNab at (713) 678-4300. Send written material and requests to make oral presentations to Commander Brian J. Peter, Commandant (G-MSO-1), U.S. Coast Guard Headquarters, 2100 Second Street SW., Washington, DC 20593-0001. This notice is available on the Internet at http://dms.dot.gov.

FOR FURTHER INFORMATION CONTACT: For questions on this notice, contact Commander Brian J. Peter, Executive Director of MERPAC, or Mr. Mark C. Gould, Assistant to the Executive Director, telephone 202-267-0229, fax 202-267-4570, or e-mail mgould@comdt.uscg.mil.

SUPPLEMENTARY INFORMATION: Notice of these meetings is given under the Federal Advisory Committee Act, 5 U.S.C. App. 2.

Agenda of Meeting on September 18, 2003

The full committee will meet to discuss the objectives for the meeting. The committee will then break up into the following working groups: Task statement 36, concerning the recommendations on a training program for officers in charge of an engineering watch coming up through the hawsepipe; and Task statement 37, concerning credit for sea service on vessels with no, or limited, underway time.

New working groups may be formed to address the following issues: Recommendations concerning training requirements and certification requirements needed to obtain STCW certification as Ship's Security Officer (and Company/Port Facility Security Officer); Competency needed to obtain STCW certification as an able-bodied seaman; Security issues with the new merchant mariner's document; and Practical competency demonstrations needed to obtain STCW certification as Master and Chief Mate on ships of between 500 and 3000 Gross Tonnage, as measured under the International Tonnage Convention on both international and near coastal voyages. At the end of the day, the working groups will make a report to the full committee on what has been accomplished in their meetings. No action will be taken on these reports on this date.

Agenda of Meeting on September 19, 2003

The agenda comprises the following:

(1) Introduction.

(2) Working Groups' Reports—

(a) Task Statement 36, concerning the recommendations on a training program for officers in charge of an engineering watch coming up through the hawsepipe;

(b) Task Statement 37, concerning credit for sea service on vessels with no, or limited, underway time; and

(c) Other task statements which may have been adopted for discussion and action.

(3) Other items to be discussed—

(a) Standing Committee—Prevention Through People, and

(b) Other items brought up for discussion by the committee or the public.

Procedural

Both meetings are open to the public. Please note that the meetings may adjourn early if all business is finished. At the Chair's discretion, members of the public may make oral presentations during the meetings. If you would like to make an oral presentation at a meeting, please notify the Executive Director no later than September 4, 2003. Written material for distribution at a meeting should reach the Coast Guard no later than September 4, 2003. If you would like a copy of your material distributed to each member of the committee or subcommittee in advance of the meeting, please submit 25 copies to the Executive Director no later than September 4, 2003.

Information on Services for Individuals With Disabilities

For information on facilities or services for individuals with disabilities or to request special assistance at the meetings, contact the Assistant Executive Director as soon as possible.

Dated: August 5, 2003.
Joseph J. Angelo,
Director of Standards, Marine Safety, Security and Environmental Protection.

[FR Doc. 03-20468 Filed 8-11-03; 8:45 am]

BILLING CODE 4910-15-P